DEPARTMENT OF COMMERCE

Agency Information Collection Activities; Submission to the Office of Management and Budget (OMB) for Review and Approval; Comment Request; Medical Exception Request Form

AGENCY: Department of Commerce.

ACTION: Notice; request for comment.

SUMMARY: The Department of Commerce (DOC), as part of its commitment to support the President's Executive Order 14043 of September 9, 2021, Requiring Coronavirus Disease 2019 Vaccination for Federal Employees and the Safer Federal Workforce Task Force guidance, is announcing an opportunity for public comment on a full clearance of a previous emergency approval that allowed the Department of Commerce (DOC) to collect information from individuals applying for medical exemption to the COVID-19 Mandatory Vaccinations as specified in the Agency Medical Exemption Form, Part 2. In accordance with the Paperwork Reduction Act of 1995 (PRA), we invite the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 28, 2022.

ADDRESSES: Interested persons are invited to submit written comments to the Department of Commerce, PRA Clearance Officer at PRAcomments@doc.gov. All comments received are part of the public record. Comments will generally be posted without change. All Personally Identifiable Information (for example, name and address) voluntarily submitted by the commenter may be publicly accessible. Do not submit Confidential Business Information or otherwise sensitive or protected information.

FOR FURTHER INFORMATION CONTACT: Requests for additional information should be directed to the Attn: Zack Schwartz, Chief of Staff to the Acting CFO and Assistant Secretary for Administration, Commerce Headquarters, at (202) 577-1769; or via email: ZSchwartz@doc.gov.

SUPPLEMENTARY INFORMATION:

I. Abstract

Executive Order (E.O.) 14043, titled, “Requiring Coronavirus Disease 2019 Vaccination for Federal Employees,” requires all Federal employees, as defined in 5 U.S.C. 2105, to be vaccinated against COVID-19, with exceptions only as required by law. Requests for “medical accommodation” or “medical exceptions” will be treated as requests for a disability accommodation and evaluated and decided under applicable Rehabilitation Act standards for reasonable accommodation absent undue hardship to the agency. The agency will be required to keep confidential any medical information provided, subject to the applicable Rehabilitation Act standards. This medical exemption form is necessary for Commerce to determine legal exemptions to the vaccine requirement under the Rehabilitation Act. The Form “Request for a Medical Exception to the COVID-19 Vaccine Requirement” will be completed by employees who seek a medical exception to the Federal employee vaccine mandate, and by their personal medical providers.

To request a medical exemption from the COVID-19 vaccination requirement, an employee must complete Part 1 of the medical exemption form and their medical provider must complete Part 2. The Bureau's Reasonable Accommodation Coordinators would receive this form from the requester and use it to make a recommendation to the supervisor based on the medical information provided in the form.

The request for this collection of information is essential to continue the Department of Commerce's health and safety measures regarding the Federal Employee medical exemptions to the COVID-19 mandatory vaccinations.

II. Method of Collection

The Department of Commerce will collect this information by electronically, when possible, as well as by mail, fax, telephone, technical discussions; and customer experience activities such as feedback surveys, focus groups, user testing, and in-person interviews. Department of Commerce may also utilize observational techniques to collect this information.

III. Data

OMB Control Number: 0690-0036.

Form Number(s): None.

Type of Review: Regular submission; Extension of an already approved collection.

Affected Public: Federal employees and medical providers.

Estimated Number of Respondents: 1,000.

Estimated Time per Response: 10 minutes.

Estimated Total Annual Burden Hours: 167.

Estimated Total Annual Cost to Public: $9321.

Respondent's Obligation: Voluntary.

Legal Authority: Executive Order (E.O.) 14043.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-01431 Filed 1-24-22; 8:45 am]

BILLING CODE 3510-17-P